DEPARTMENT OF JUSTICE

Immigration and Naturalization Service

Agency Information Collection Activities: Proposed Collection; Comment Request

ACTION: 30-day notice of information collection under review: application for citizenship and issuance of certificate under section 322; form N-600K.

The Department of Justice, Immigration and Naturalization Service (INS) has submitted the following information collection request to the Office of Management and Budget (OMB) for review and clearance in accordance with the Paperwork Reduction Act of 1995. The information collection was previously published in the Federal Register on May 2, 2002, at 67 FR 22111, allowing for a 30-day public comment period. No public comments were received during this comment period. The OMB approved this collection of information on August 23, 2002.

The INS has revised the collection as a result of the implementation of Public Law 107-273, 21st Century Department of Justice Appropriations Authorization Act, enacted November 2, 2002. One of the immigration related changes made by this legislation is the addition of U.S. citizen grandparents and U.S. citizen legal guardians as eligible to apply for naturalization on behalf of a child born and residing outside the United States pursuant to the section 322 of the Immigration and Nationality Act (INA). Under this amended provision, application by the U.S. citizen grandparent or U.S. citizen legal guardian can be made within five years of the death of a U.S. citizen parent of a child who could otherwise have been the beneficiary of an application pursuant to INA 322. The collection has been revised accordingly.

The purpose of this notice is to allow an additional 30 days for public comments on the revised form. Attached for your review and comment is the revised form. Comments are encouraged and will be accepted until March 12, 2003. This process is conducted in according with 5 CFR 1320.10.

Written comments and/or suggestions regarding the items contained in this notice, especially regarding the estimated public burden and associated response time, should be directed to the Office of Management and Budget, Office of Information and Regulatory Affairs, Attention: Department of Justice Desk Officer, 725—17th Street, NW., Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved information collection.

(2) Title of the Form/Collection: Application for Citizenship and Issuance of Certificate under Section 322.

(3) Agency form number, if any, and the applicable component of the Department of Justice sponsoring the collection: Form N-600K, Immigration Services Division, Immigration and Naturalization Service.

(4) Affected public who will be asked or required to respond, as well as a brief abstract: Primary: Individuals or Households. This form provides an organized framework for establishing the authenticity of an applicant's eligibility and is essential for providing prompt, consistent and correct processing of such applications for citizenship under section 322 of the Act.

(5) An estimate of the total number of respondents and the amount of time estimated for an average respondent to respond: 1,500 responses at 1 hour and 35 minutes (1.583 hours) per response.

(6) An estimate of the total public burden (in hours) associated with the collection: 2,374 annual burden hours.

If you have additional comments, suggestions, or need a copy of the proposed information collection instrument with instructions, or additional information, please contact Richard A. Sloan 202-514-3291, Director, Regulations and Forms Services Division, Immigration and Naturalization Service, U.S. Department of Justice, 425 I Street, NW., Room 4034, Washington, DC 20536. Additionally, comments and/or suggestions regarding the item(s) contained in this notice, especially regarding the estimated public burden and associated response time may also be directed to Mr. Richard A. Sloan.

If additional information is required contact: Mr. Robert B. Briggs, Clearance Officer, United States Department of Justice, Information Management and Security Staff, Justice Management Division, Patrick Henry Building, 601 D Street, NW., Ste. 1600, Washington, DC 20530.

Dated: February 4, 2003.
Richard A. Sloan,
Department Clearance Officer, Department of Justice, Immigration and Naturalization Service.

[FR Doc. 03-3122 Filed 2-7-03; 8:45 am]

BILLING CODE 4410-10-M